DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Action(s)

On May 23, 2019, OFAC determined that the property and interests in property subject to U.S. jurisdiction of the following persons are blocked under the relevant sanctions authority listed below.

Individuals

1. BRUNETTI, Luciano (a.k.a. “BIFF TANNEN”; a.k.a. “LUCHO”), Buenos Aires, Argentina; DOB 30 Aug 1988; POB Argentina; nationality Argentina; Gender Male; Passport AAC206993 (Argentina); D.N.I. 34142353 (Argentina) (individual) [SDNTK]. Designated pursuant to section 805(b)(3) of the Foreign Narcotics Kingpin Designation Act (“Kingpin Act”), 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

2. FERRARI, Sergio David (a.k.a. “Yagy”), Chivilcoy 3157 Piso 2 Depto D, Buenos Aires 1417, Argentina; Buenos Aires, Argentina; DOB 10 Feb 1968; POB Buenos Aires, Argentina; nationality Argentina; Gender Male; Passport AAA760416 (Argentina); D.N.I. 20010866 (Argentina); C.U.I.T. 20200108664 (Argentina) (individual) [SDNTK] (Linked To: SMILE TECHNOLOGIES S.A.; Linked To: SMILE PROPERTY & TRAVEL LTD; Linked To: SMILEWALLET S.A.S.; Linked To: SMILE TECHNOLOGIES CANADA LTD). Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

3. FRENZEL, Conrado Adolfo (a.k.a. “OTTO”), Buenos Aires, Argentina; DOB 07 Nov 1968; POB Buenos Aires, Argentina; nationality Argentina; Gender Male; Passport AAA435057 (Argentina); D.N.I. 20608046 (Argentina); C.U.I.T. 23206080469 (Argentina) (individual) [SDNTK] (Linked To: HIGH NUTRITION SOCIEDAD DE RESPONSABILIDAD LIMITADA; Linked To: B-WORK S.A.S.). Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

4. PAURA, Jorge Alejandro (a.k.a. “LARRY”), Buenos Aires, Argentina; DOB 31 Oct 1967; POB Buenos Aires, Argentina; nationality Argentina; Gender Male; Passport AAB376848 (Argentina); D.N.I. 18580686 (Argentina); C.U.I.T. 20185806864 (Argentina) (individual) [SDNTK] (Linked To: BAJER S.R.L.; Linked To: HIGH NUTRITION SOCIEDAD DE RESPONSABILIDAD LIMITADA). Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

5. PAURA, Lucas Daniel, Buenos Aires, Argentina; DOB 04 Jan 1988; POB Buenos Aires, Argentina; nationality Argentina; Gender Male; Passport 33533978N (Argentina); D.N.I. 33533978 (Argentina) (individual) [SDNTK]. Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

6. PEREZ SANTORO, Roberto Javier (a.k.a. PEREZ SANTORO, Javier), Buenos Aires, Argentina; DOB 10 Sep 1983; POB Buenos Aires, Argentina; nationality Argentina; Gender Male; Passport AAB523976 (Argentina); D.N.I. 30312556 (Argentina) (individual) [SDNTK] (Linked To: SMILE TECHNOLOGIES S.A.; Linked To: SMILE PROPERTY & TRAVEL LTD; Linked To: SMILEWALLET S.A.S.; Linked To: SMILEWALLET B.V.). Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

7. TOMAGHELLI, Gaston, Buenos Aires, Argentina; DOB 17 Nov 1977; POB Argentina; nationality Argentina; Gender Male; Passport AAD186419 (Argentina); D.N.I. 26201272 (Argentina) (individual) [SDNTK] (Linked To: DTS CONSULTING S.A.). Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

8. VIDEMATO, Santiago (a.k.a. “JAMES DUGGAN”; a.k.a. “RAMONA IBARRA”), Buenos Aires, Argentina; DOB 04 Oct 1983; POB Buenos Aires, Argentina; nationality Argentina; Gender Male; Passport AAA920679 (Argentina); D.N.I. 30555776 (Argentina) (individual) [SDNTK]. Designated pursuant to section 805(b)(3) of the Kingpin Act, 21 U.S.C. 1904(b)(3), for being owned, controlled, or directed by, or acting for or on behalf of, the GOLDPHARMA DRUG TRAFFICKING & MONEY LAUNDERING ORGANIZATION, a foreign person identified as a significant foreign narcotics trafficker pursuant to the Kingpin Act.

Entities

1. BAJER S.R.L. (a.k.a. BAJER SOCIEDAD DE RESPONSABILIDAD LIMITADA), Nazarre 3336, Buenos Aires 1417, Argentina; C.U.I.T. 30712314156 (Argentina) [SDNTK]. Designated pursuant to section 805(b)(3) of the Kingpin Act, 21 U.S.C. 1904(b)(3), for being owned, controlled, or directed by, or acting for or on behalf of, Jorge Alejandro PAURA, a foreign person designated pursuant to the Kingpin Act.

2. B-WORK S.A.S., Libertador del Av. 6025 piso 4, Buenos Aires, Argentina [SDNTK]. Designated pursuant to section 805(b)(3) of the Kingpin Act, 21 U.S.C. 1904(b)(3), for being owned, controlled, or directed by, or acting for or on behalf of, Conrado Adolfo FRENZEL, a foreign person designated pursuant to the Kingpin Act.

3. DTS CONSULTING S.A., 25 de Mayo 611, piso 4 of. 2, Buenos Aires, Argentina [SDNTK]. Designated pursuant to section 805(b)(3) of the Kingpin Act, 21 U.S.C. 1904(b)(3), for being owned, controlled, or directed by, or acting for or on behalf of, Gaston TOMAGHELLI, a foreign person designated pursuant to the Kingpin Act.

4. GOLDPHARMA DRUG TRAFFICKING & MONEY LAUNDERING ORGANIZATION (a.k.a. GOLDPHARMA DRUG TRAFFICKING AND MONEY LAUNDERING ORGANIZATION), Buenos Aires, Argentina [SDNTK]. Identified as a significant foreign narcotics trafficker pursuant to section 805(b)(1) of the Kingpin Act, 21 U.S.C. 1904(b)(1).

5. HIGH NUTRITION SOCIEDAD DE RESPONSABILIDAD LIMITADA (a.k.a. HIGH NUTRITION S.R.L.), Adolfo Carranza 2216, Buenos Aires, Argentina [SDNTK]. Designated pursuant to section 805(b)(3) of the Kingpin Act, 21 U.S.C. 1904(b)(3), for being owned, controlled, or directed by, or acting for or on behalf of, Jorge Alejandro PAURA, a foreign person designated pursuant to the Kingpin Act.

6. LA FLORIDA INVESTMENTS GROUP LLC, Sunny Isles, FL, United States; Registration ID L12000070773 (United States) [SDNTK]. Property within the United States that is owned or controlled by Jorge Alejandro PAURA and Conrado Adolfo FRENZEL, and therefore is blocked pursuant to section 805(b) of the Kingpin Act, 21 U.S.C. 1904(b).

7. OYSTER INVESTMENTS LLC, Lewes, DE, United States; 1250 S Miami Ave, Unit 1004, Miami, FL, United States; 1250 S Miami Ave, Unit 1603, Miami, FL, United States; 170 SE 14 St, Unit 1606, Miami, FL, United States; 170 SE 14 St, Unit 2405, Miami, FL, United States; File Number 5277495 (United States) [SDNTK]. Property within the United States that is owned or controlled by Gaston TOMAGHELLI, and therefore is blocked pursuant to section 805(b) of the Kingpin Act, 21 U.S.C. 1904(b).

8. SMILE PROPERTY & TRAVEL LTD (a.k.a. QUARTIERLATINAPARTMENTS; a.k.a. SMILE BITCARD; a.k.a. SMILE PROPERTY AND TRAVEL LTD), Flat 1 73a White Lion Street, Islington, London N1 9PF, United Kingdom; 72 High Street Haslemere, Surrey GU27 2LA, United Kingdom; website quartierlatinapartments.com; alt. Website smilebitcard.com; Company Number 08220547 (United Kingdom) [SDNTK]. Designated pursuant to section 805(b)(3) of the Kingpin Act, 21 U.S.C. 1904(b)(3), for being owned, controlled, or directed by, or acting for or on behalf of, Sergio David FERRARI and Roberto Javier PEREZ SANTORO, foreign persons designated pursuant to the Kingpin Act.

9. SMILE PROPERTY & TRAVEL LTD. (a.k.a. SMILE PROPERTY AND TRAVEL LTD.), San Antonio, TX, United States; Tax ID No. 32066912794 (United States) [SDNTK]. Property within the United States that is owned or controlled by Sergio David FERRARI, and therefore is blocked pursuant to section 805(b) of the Kingpin Act, 21 U.S.C. 1904(b).

10. SMILE TECHNOLOGIES CANADA LTD (a.k.a. SMILE TECHNOLOGIES CANADA LIMITED; a.k.a. SMILE WALLET; a.k.a. SMILETRAVELS; a.k.a. SMILEWALLET; a.k.a. SWEET APARTMENTS), 5825 Tiz Road, Mississauga, Ontario L5N0B6, Canada; 731 States Street, Mississauga, Ontario L5R 0B6, Canada; 2 Robert Speck Parkway, 7th Floor, Mississauga, Ontario L4Z 1H8, Canada; website www.smiletraveltours.com; alt. Website www.sweetaparts.com; Company Number 2592364 (Canada); MSB Registration Number M18867067 (Canada) [SDNTK]. Designated pursuant to section 805(b)(3) of the Kingpin Act, 21 U.S.C. 1904(b)(3), for being owned, controlled, or directed by, or acting for or on behalf of, Sergio David FERRARI, a foreign person designated pursuant to the Kingpin Act.

11. SMILE TECHNOLOGIES S.A. (a.k.a. SMILE PAYMENTS; a.k.a. SMILE WALLET LIMITED; a.k.a. SMILE WALLET LTD), Avenida Chivilcoy 3157, piso 2, departamento D, Buenos Aires, Argentina; website www.smiletechnologies.com.ar; alt. Website smilepayments.com; C.U.I.T. 30715339176 (Argentina) [SDNTK]. Designated pursuant to section 805(b)(3) of the Kingpin Act, 21 U.S.C. 1904(b)(3), for being owned, controlled, or directed by, or acting for or on behalf of, Sergio David FERRARI and Roberto Javier PEREZ SANTORO, foreign persons designated pursuant to the Kingpin Act.

12. SMILE TECHNOLOGIES S.A. LLC, San Antonio, TX, United States; Tax ID No. 32066912711 (United States) [SDNTK]. Property within the United States that is owned or controlled by Sergio David FERRARI, and therefore is blocked pursuant to section 805(b) of the Kingpin Act, 21 U.S.C. 1904(b).

13. SMILEPAYMENTS, LLC, Wilmington, DE, United States; File Number 5736292 (United States) [SDNTK]. Property within the United States that is owned or controlled by Sergio David FERRARI, and therefore is blocked pursuant to section 805(b) of the Kingpin Act, 21 U.S.C. 1904(b).

14. SMILEWALLET B.V., Herengracht 420, Amsterdam 1017BZ, Netherlands; website www.smilewallet.com; Chamber of Commerce Number 70004676 (Netherlands); RSIN 858100034 (Netherlands) [SDNTK]. Designated pursuant to section 805(b)(3) of the Kingpin Act, 21 U.S.C. 1904(b)(3), for being owned, controlled, or directed by, or acting for or on behalf of, Roberto Javier PEREZ SANTORO, a foreign person designated pursuant to the Kingpin Act.

15. SMILEWALLET S.A.S., CR 15 #146 29 Casa 1, Bogota, DC, Colombia; NIT #9011450176 (Colombia) [SDNTK]. Designated pursuant to section 805(b)(3) of the Kingpin Act, 21 U.S.C. 1904(b)(3), for being owned, controlled, or directed by, or acting for or on behalf of, Sergio David FERRARI and Roberto Javier PEREZ SANTORO, foreign persons designated pursuant to the Kingpin Act.

16. SMILEWALLET, LLC, San Antonio, TX, United States; Tax ID No. 32065536529 (United States) [SDNTK]. Property within the United States that is owned or controlled by Sergio David FERRARI, and therefore is blocked pursuant to section 805(b) of the Kingpin Act, 21 U.S.C. 1904(b).

17. WATER HILL CORP., Miami, FL, United States; Identification Number P16000064887 (United States) [SDNTK]. Property within the United States that is owned or controlled by Gaston TOMAGHELI, and therefore is blocked pursuant to section 805(b) of the Kingpin Act, 21 U.S.C. 1904(b).

Dated: May 23, 2019.
Andrea M. Gacki,
Director, Office of Foreign Assets Control.

[FR Doc. 2019-11146 Filed 5-28-19; 8:45 am]

BILLING CODE 4810-AL-P